DEPARTMENT OF THE INTERIOR

Bureau of Land Management

[LLCO921000-L13200000-EL0000, COC-74817]

Notice of Invitation—Coal Exploration License Application COC-74817

AGENCY: Bureau of Land Management, Interior.

ACTION: Notice.

SUMMARY: Members of the public are hereby invited to participate with Blue Mountain Energy, Inc. on a pro rata cost-sharing basis in a program for the exploration of coal deposits owned by the United States of America in lands located in Moffat and Rio Blanco Counties, Colorado.

DATES: Any party electing to participate in this exploration program must send written notice to both the Bureau of Land Management (BLM) and Blue Mountain Energy, Inc., as provided in the ADDRESSES section below no later than August 1, 2011 or 10 calendar days after the last publication of this Notice in the Rangely Times newspaper, whichever is later. This Notice will be published once a week for 2 consecutive weeks in the Rangely Times, Rangely Colorado. Such written notice must refer to serial number COC 74817.

ADDRESSES: The proposed exploration license and plan is available for review from 9 a.m. to 4 p.m., Monday through Friday in the BLM Colorado State Office, 2850 Youngfield Street, Lakewood, Colorado, and the BLM White River Field Office, 220 E. Market St., Meeker, Colorado.

A written notice to participate in the exploration license should be sent to the State Director, BLM Colorado State Office, 2850 Youngfield Street, Lakewood, Colorado 80215 and Blue Mountain Energy, Inc., Attn: Jeffrey Dubbert, 3607 County Rd. #65, Rangley, Colorado 81648.

FOR FURTHER INFORMATION CONTACT: Kurt M. Barton by telephone at 303-239-3714 or by e-mail at kbarton@blm.gov; or Paul Daggett by telephone at 970-878-3819, or by e-mail at pdaggett@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The exploration activities will be performed pursuant to the Mineral Leasing Act of 1920, as amended, 30 U.S.C. 201(b), and to the regulations at 43 CFR part 3410. The purpose of the exploration program is to gain additional geologic knowledge of the coal underlying the exploration area for the purpose of assessing the coal resources. The exploration program is fully described and will be conducted pursuant to an exploration license and plan approved by the BLM. The exploration plan may be modified to accommodate the legitimate exploration needs of persons seeking to participate. The lands to be explored for coal deposits in exploration license COC 74817 are described as follows:

Sixth Principal Meridian, Colorado

T. 3 N., R. 101 W.,

Sec. 17, S½;SW¼;

Sec. 18, SE¼, and E½SW¼;

Sec. 19, NE¼, E½NW¼, SW¼NW¼, SW¼, and NW¼SE¼.

T. 3 N., R. 102 W.,

Sec. 24, SE¼, S¼NE¼, E½SW¼, and SE¼NW¼;

Sec. 25, NE¼, and E½NW¼.

These lands contain 1,375 acres, more or less.

The proposed exploration program will be conducted pursuant to an exploration plan to be approved by the BLM. The plan may be modified to accommodate the legitimate exploration needs of persons seeking to participate.

The foregoing is published in the Federal Register pursuant to 43 CFR 3410.2-1(c)(1).

Helen M. Hankins,
State Director.

[FR Doc. 2011-16521 Filed 6-30-11; 8:45 am]

BILLING CODE 4310-JB-P